GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PPFM-7

SYSTEM NAME:

Credit Data on Individual Debtors.

SYSTEM LOCATION:

Records are located at the following GSA Central Office and Regional addresses of the GSA Office of Finance:

• GSA Building, 1800 F Street, NW., Washington, DC 20405.

• Bannister Complex, 1500 East Bannister Road, Kansas City, MO 64131.

• Fritz G. Lanham Federal Building, 819 Taylor Street, Fort Worth, TX 76102.

CATEGORIES OF INDIVIDUALS COVERED BY THE SYSTEM:

Individuals covered include employees, former employees, and other individuals who are indebted to GSA or any other agency or department of the United States; a State, territory or commonwealth of the United States, or the District of Columbia (hereinafter collectively referred to as “States”); or individuals that may become indebted to GSA or another agency or department of the United States as the result of a privately owned vehicle (POV) being involved in an accident with a GSA Fleet vehicle.

CATEGORIES OF RECORDS IN THE SYSTEM:

The records may contain information from commercial and agency investigative reports showing debtors' assets, liabilities, income, and expenses; identifying information, such as names and taxpayer identification numbers (TINs) (i.e., Social Security Numbers or employer identification numbers); debtor contact information, such as work and home address, and work and home telephone numbers; and name of employer and employer address. The records for claims against nongovernmental individuals (i.e., claims arising from vehicle accidents) may contain information on privately owned vehicles (POVs), including, but not limited to: (a) The owner, year, make, model, tag number and State of the vehicle; and (b) the driver's or owner's insurance company information, including name, address, telephone number and policy number. Debts include unpaid taxes, loans, assessments, fines, fees, penalties, overpayments, advances, extensions of credit from sales of goods or services, third-party claims, and other amounts of money or property owed to, or collected by, GSA, any other Federal entity or a State, including past-due support that is being enforced by a State. The records also may contain information about: (a) The debt, such as the original amount of the debt, the debt account number, the date of debt origination, the amount of delinquency or default, date of delinquency or default, the basis for the debt, the amounts accrued for interest, penalties, and administrative costs; and the payments on the account; (b) actions taken to collect or resolve the debt, such as demand letters or invoices sent, documents or information required for referral of accounts to collection agencies, to other Federal entities, or for litigation, and notes taken regarding telephone or other communications related to the collection or resolution of the debt; and (c) the referring or collecting governmental entity that is collecting or is owed the debt, such as the name, telephone number, and address of the governmental entity contact.

AUTHORITY FOR MAINTENANCE OF THE SYSTEM:

5 U.S.C. 5514, 31 U.S.C. 3701 and 3702, 31 U.S.C. 3711 et seq., 31 U.S.C. 6503, and 26 U.S.C. 6402.

Purpose:

The purpose of the system is to assemble and maintain information on individuals who are indebted to GSA, other Federal entities, and States for the purpose of effecting enforced collections from the debtors, including past-due support enforced by States. The information contained in the records is maintained for the purpose of taking action to facilitate collection and resolution of debts using various methods, including, but not limited to, requesting repayment of debt by telephone or in writing, pursuing offset, levy, administrative wage garnishment, centralized salary offset, referral to collection agencies or litigation, and using other collection or resolution methods authorized or required by law. The information is also maintained for the purpose of providing collection information about the debt to other Federal entities or States collecting the debt, providing statistical information on debt collection operations, and testing and developing enhancements to computer systems containing the records.

ROUTINE USES OF THE SYSTEM OF RECORDS, INCLUDING CATEGORIES OF THE USERS AND THEIR PURPOSE FOR USING THE SYSTEM:

In addition to the disclosures permitted under subsection (b) of the Privacy Act, 5 U.S.C. 552a(b), GSA may disclose information contained in this system of records without the consent of the subject individual if the disclosure is compatible with the purpose for which the record was collected under the following routine uses:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To any Federal agency where the debtor is employed or receiving some form of remuneration for the purpose of enabling that agency to collect a debt owed the Federal government on GSA's behalf. GSA may negotiate with the debtor for voluntary repayment or may initiate administrative or salary offset procedures or other authorized debt collection methods under the provisions of the Debt Collection Act of 1982, 5 U.S.C. 5514, or the Debt Collection Improvement Act of 1996, 31 U.S.C. 3701 et seq.

e. To the Office of Personnel Management (OPM), the Office of Management and Budget (OMB), or the Government Accountability Office (GAO) when the information is required for program evaluation purposes.

f. To any Federal, State or local agency, U.S. Territory or commonwealth, or the District of Columbia, or their agents or contractors, including private collection agencies (consumer and commercial):

(1) To facilitate the collection of debts through the use of any combination of various debt collection methods required or authorized by law, including, but not limited to: Requests for repayment by telephone or in writing; negotiation of voluntary repayment or compromise agreements; offsets of Federal payments, which may include the disclosure of information contained in the records for the purpose of providing the debtor with appropriate pre-offset notice and to otherwise comply with offset prerequisites, to facilitate voluntary repayment in lieu of offset, and to otherwise effectuate the offset process; referral of debts to private collection agencies, to Treasury-designated debt collection centers, or for litigation; obtaining administrative and court-ordered wage garnishment; conducting debt sales; publishing names and identities of delinquent debtors in the media or other appropriate places; creating a Centralized Salary Offset program; and pursuing any other debt collection method authorized by law.

(2) To conduct computerized comparisons to locate Federal payments to be made to debtors.

(3) To conduct authorized computer matching programs in compliance with the Privacy Act of 1974, as amended, 5 U.S.C. 552a, to identify and locate individuals receiving Federal payments (including but not limited to salaries, wages and benefits), which may include the disclosure of information contained in the records for the purpose of requesting voluntary repayment or implementing Federal employee salary offset or other offset procedures.

(4) To collect a debt owed to GSA, another Federal entity, or State through the offset of payments made by States, territories, commonwealths, or the District of Columbia.

(5) To account for or report on the status of debts for which such entity has a financial or other legitimate need for the information in the performance of official duties.

(6) To deny Federal financial assistance in the form of loans or loan guarantees to an individual who owes a delinquent debt to GSA or another Federal entity or who owes delinquent child support that has been referred to GSA for collection by administrative offset.

(7) To develop, enhance, and/or test databases, matching communications, or other computerized systems that facilitate debt collection processes.

(8) To provide assistance with any other appropriate debt collection purpose.

g. To a Member of Congress or staff on behalf of and at the request of the individual who is the subject of the record.

h. To any individual or entity:

(1) To facilitate the collection of debts through the use of any combination of various debt collection methods required or authorized by law, including, but not limited to: pursuing administrative or court-ordered wage garnishment; reporting information to commercial credit bureaus; conducting asset searches; publishing the names and identities of delinquent debtors in the media or other appropriate places; conducting debt sales; or initiating Centralized Salary Offsets.

(2) To deny Federal financial assistance in the form of loans or loan guarantees to an individual who owes a delinquent debt to the United States or delinquent child support that has been referred to GSA for collection by administrative offset.

(3) To pursue any other appropriate debt collection purpose, such as to credit reporting agencies or credit bureaus for the purpose of adding to a credit history file or obtaining a credit history file or comparable credit information for use in debt collection. As authorized by the Debt Collection Improvement Act of 1996, 31 U.S.C. 3701 et seq., GSA may report current (not delinquent) and delinquent consumer or commercial debts to these entities to aid the collection of debts, typically by providing an incentive to the person to repay the debt in a timely manner. GSA may report on delinquent debts to the Department of Housing and Urban Development's Credit Alert Interactive Voice Response System (CAIVRS).

i. To the Internal Revenue Service and applicable State and local governments for tax reporting purposes. Under the provisions of the Debt Collection Improvement Act of 1996, 31 U.S.C. 3701 et seq., GSA is permitted to provide the Department of Treasury with Form 1099-C information on canceled or forgiven debts so that the Department of Treasury may file the form on GSA's behalf with the IRS. W-2 and 1099 Forms contain information on items to be considered as income to an individual, including payments to persons not treated as employees (e.g., fees paid to consultants and experts) and amounts written-off as legally or administratively uncollectible in whole or in part.

j. To banks enrolled in the Treasury Credit Card Network to collect a payment or debt when the individual has given his or her credit card number for this purpose.

k. To the Department of Treasury or other Federal agency with whom GSA has entered into an agreement establishing the terms and conditions for debt collection cross servicing operations on behalf of GSA to satisfy, in whole or in part, debts owed to the United States. Cross servicing includes the possible use of all debt collections tools such as administrative offset, referral to debt collection contractors, and referral to the Department of Justice.

l. To the Department of Treasury, government corporations, State or local agencies, or other Federal agencies to conduct computer matching programs for the purpose of identifying and locating individuals who are receiving Federal salaries or benefit payments and are delinquent in their repayment of debts owed to the United States under certain programs administered by the GSA in order to collect the debts under the provisions of the Debt Collection Act of 1982, as amended, 5 U.S.C. 5514, or the Debt Collection Improvement Act of 1996, 31 U.S.C. 3701 et seq., by voluntary payment or administrative or salary offset procedures.

m. To the National Archives and Records Administration (NARA) for records management purposes.

n. To or from the Department of Treasury for the purpose of allowing the GSA National Payroll Center (NPC) to participate in the Centralized Salary Offset (CSO) program, or similar offset program. Agencies must notify the Department of Treasury of all delinquent debts over 180 days past due so that recovery may be made by centralized administrative offset. This includes debts that GSA seeks to recover from the pay account of an employee of another agency by salary offset, or by another agency seeking recovery from a GSA employee, including client agency employees, by salary offset.

o. To or from another agency or department of the United States when a GSA Fleet vehicle has been involved in an accident with an individual or commercial POV. Disclosure to consumer reporting agencies: Disclosures pursuant to 5 U.S.C. 552a(b)(12) may be made from this system to consumer reporting agencies as defined in the Fair Credit Reporting Act, 15 U.S.C. 1681a(f), or the Federal Claims Collection Act of 1966, as amended, 31 U.S.C. 3701(a)(3) and 3711(e).

p. To an expert, consultant, or contractor of GSA in the performance of a Federal duty to which the information is relevant.

q. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

Paper records are maintained in file folders and/or boxes and stored in lockable filing cabinets or file room until archived at NARA, or in electronic form in computers or other electronic media.

RETRIEVABILITY:

Records are maintained by name and claim number and are cross-referenced with the Social Security Number (when available).

SAFEGUARDS:

Records are stored in guarded buildings and/or in areas controlled by authorized personnel. Computer files are protected by the use of passwords and other appropriate security measures.

RETENTION AND DISPOSAL:

Records for files submitted to the Financial Management Service for cross servicing per the Debt Collection Act of 1996 are maintained on site for the time period at FMS (up to 10 years). Records for closed files are sent to the National Archives and Records Administration and are retained for 6 years and 3 months.

SYSTEM MANAGER AND ADDRESS:

Deputy Chief Financial Officer, Office of Financial Policy and Operations, General Services Administration, 1800 F Street, NW., Washington, DC 20405.

NOTIFICATION PROCEDURE:

Inquiries by individuals under the Privacy Act of 1974, as amended (5 U.S.C. 552a) regarding claims pertaining to themselves should be addressed to the system manager. All individuals making inquiries should provide as much descriptive information as possible to identify the particular record desired. The system manager will advise as to whether GSA maintains the records requested by the individual.

RECORD ACCESS PROCEDURES:

Requests from individuals for access to records should be addressed to the system manager and should include the individual's name and address.

CONTESTING RECORD PROCEDURES:

GSA rules for contesting the contents of the records and for appealing initial determinations are promulgated in 41 CFR 105.64.

RECORD SOURCE CATEGORIES:

Information in this system is obtained from individual debtors; credit bureaus; agency investigative reports; other GSA systems of records; Federal and State agencies to which debts are owed; Federal employing agencies and other entities that employ the individual; Federal and State agencies issuing payments; collection agencies; locator and asset search companies; Federal, State or local agencies furnishings identifying information and/or addresses of debtors; or from public documents.

[FR Doc. E8-8925 Filed 4-24-08; 8:45 am]

BILLING CODE 6820-34-P